DEPARTMENT OF THE INTERIOR

Bureau of Land Management

[WY-060-07-1610-DQ]

Notice of Availability (NOA) of the Casper Proposed Resource Management Plan (PRMP) and associated Final Environmental Impact Statement (FEIS), Wyoming; and Notice of Supplemental Information on Proposed Areas of Critical Environmental Concern (ACEC) Provided in the Casper Draft Resource Management Plan (RMP) and Associated Draft Environmental Impact Statement (EIS), Wyoming

AGENCY: Bureau of Land Management, Interior.

ACTION: Notice of Availability and Notice of Supplemental Information.

SUMMARY: (1) In accordance with the National Environmental Policy Act of 1969 (NEPA, 42 U.S.C. 4321 et seq.) and the Federal Land Policy and Management Act of 1976 (FLPMA, 43 U.S.C. 1701 et seq.), the Bureau of Land Management (BLM) with its cooperating agencies has prepared a Proposed RMP and Final EIS for the Casper Field Office. The document is available for public review. (2) Pursuant to FLPMA, the BLM also announces the availability of supplemental information regarding proposed ACECs that were considered in the Draft Resource Management Plan/Draft Environmental Impact Statement (DRMP/DEIS), but only partially described in the original NOA published in the Federal Register (Vol. 71, No. 140) on July 21, 2006. This notice of supplemental information fulfills an administrative procedural requirement and presents no new information that was not already made available to the public during the previous 90-day comment period on the DRMP/DEIS.

DATES: 1. Protest Period for the Proposed Casper RMP/FEIS: The BLM Planning Regulations (43 CFR 1610.5-2) state any person who participated in the planning process, and has an interest which is or may be adversely affected, may protest BLM's approval of an RMP. You must file a protest within 30 days of the date the Environmental Protection Agency (EPA) publishes their NOA in the Federal Register.

2. Comment Period for the Proposed ACECs in the Casper DRMP/DEIS: Consistent with 43 CFR 1610.7-2, a 60-day public review of the ACEC information and comment period will start on the date that this notice appears in the Federal Register. The 30-day protest period (identified in Item 1 above) will not be extended or repeated, unless new and significant ACEC-related information is identified and a Supplemental PRMP/FEIS is issued.

Instructions for filing a protest or commenting on the proposed ACECs are provided in the “Dear Reader” letter in the Casper PRMP/FEIS and in the Supplementary Information section of this notice.

ADDRESSES: Refer to the Supplementary sec. below for addresses for filing a protest or commenting on the proposed ACECs.

FOR FURTHER INFORMATION CONTACT: Linda Slone, RMP Project Manager, Bureau of Land Management, 2987 Prospector Drive, Casper, WY 82604; telephone—(307) 261-7520; e-mail CRMP_wymail@blm.gov with Casper RMP in the subject line.

SUPPLEMENTARY INFORMATION: The Casper Field Office is located in east-central Wyoming and includes approximately 8.5 million acres of land in most of Natrona County, and all of Converse, Goshen, and Platte counties. Public land in the southwestern corner of Natrona County is administered by the BLM Lander Field Office. Within the Casper planning area, the BLM administers approximately 1.4 million acres of BLM-administered public land surface and 4.7 million acres of Federal mineral estate. The DRMP/DEIS made available for public review on July 21, 2006, described and analyzed five alternatives for the management of public lands and resources administered by the BLM Casper Field Office: Alternative A (Continuation of Existing Management Direction or the “No Action” Alternative) continues to balance the use and development of resources; Alternative B emphasizes conservation of physical, biological, and heritage resources with constraints on resource uses; Alternative C provides physical, biological, and heritage resource conservation similar to current management while allowing for more recreation experiences; Alternative D emphasizes resource uses, e.g., energy and mineral development, recreation, and forest products; and Alternative E (Preferred Alternative) conserves physical, biological, and heritage resources while emphasizing moderate constraint). The major issues addressed in the alternatives include: (1) Energy and mineral resource exploration and development; (2) vegetation and habitat management; (3) landownership adjustments, access and transportation; and (4) special designations.

There are currently two ACECs, Jackson Canyon ACEC and Salt Creek Hazardous ACEC, totaling approximately 249,350 acres of mixed public surface and private or state land ownership as established in the Platte River RMP (1985). Five potential ACECs were proposed in the Casper DRMP. Supplemental ACEC information presented in this notice is identified as use limitations below. This information was already presented in the DRMP/DEIS but inadvertently omitted from the NOA announcing release of the document for a 90-day public comment period.

• Alcova Fossil Area (7,073 acres; mostly Federal surface): Values of Concern—rare fossil tracks and additional fossils from two geological periods. Use Limitations—surface-disturbing activities may be restricted if impacts cannot be mitigated. Off-highway vehicle (OHV) use is limited to designated roads and trails. The area is closed to locatable mineral entry.

• Black-tailed Prairie Dog Complex (22,937 acres; mostly non-Federal surface): Values of Concern—protection of habitat and other species dependent on prairie dog colonies. Use Limitations—the area is administratively unavailable for oil and gas geophysical exploration. Future development on new oil and gas leases is limited to one well per 160 acres. The area is a right-of-way avoidance area.

• Cedar Ridge (21,742 acres; over 60 percent Federal surface): Values of concern—historic cultural resources, including traditional ceremonial sites in use by the Shoshone, Arapaho, and other tribes. Use Limitations within the Traditional Cultural Property—surface-disturbing activities are prohibited. The area is closed to locatable mineral entry and disposal of mineral materials. Use Limitation within the Periphery Area (3-mile viewshed)—surface-disturbing activities may be restricted unless impacts can be mitigated. Mineral material development is limited to five acres or less with provisions for expansion once rehabilitation of the initial location has started.

• North Platte River—(85,393 acres; mostly non-Federal surface): Values of Concern—fisheries and wildlife habitats and high recreational and scenic values. Use Limitations—the area is administratively unavailable to oil and gas leasing and geophysical operations. The area is closed to disposal of mineral materials. The existing North Platte River protective withdrawal on 3,226 acres is continued. Surface-disturbing activities are prohibited, unless to benefit the values of concern. Grazing leases may be adjusted or terminated and those grazing leases at the Trapper's Route landing sites are not renewed.

• South Bighorns/Red Wall (262,901 acres; over 55 percent Federal surface): Values of Concern—crucial wildlife habitat, cultural resources, intact native vegetation communities and outstanding scenery. Use Limitations—the area is closed to locatable mineral entry and disposal of mineral materials. Oil and gas leasing and geophysical operations are administratively unavailable and the area is a right-of-way exclusion area. Non-mineral surface-disturbing activities may be restricted if impacts cannot be mitigated.

In the DRMP/DEIS, Alternative E proposes to maintain ACEC status for Jackson Canyon; remove ACEC status for Salt Creek Hazardous Area; and add the following to be managed as ACECs in the future: Alcova Fossil Area. The following areas would be established as Management Areas (MAs): Bates Hole, Salt Creek, Sand Hills, South Bighorns/Red Wall, and Wind River Basin. Public involvement and collaboration included a Notice of Intent to Prepare a Resource Management Plan Revision published in the Federal Register; four open houses during public scoping; presentations to interested organizations upon request; distribution of information on the Casper RMP Web site and periodic newsletters; and a 90-day public review and comment period on the DRMP/DEIS, including four public meetings/hearings. Cooperating agencies include the EPA; National Park Service (NPS)—Fort Laramie National Historic Site; State of Wyoming; Converse, Natrona, and Platte counties; and Converse, Natrona, Lingle-Fort Laramie, North Platte Valley, and South Goshen Conservation districts.

Comments on the DRMP/DEIS received from the public and internal BLM review comments were incorporated into the proposed plan. Public comments resulted in the addition of clarifying text but did not significantly change proposed land use decisions. After careful consideration of both public and internal comments received on the DRMP/DEIS, adjustments and clarifications have been made to Alternative E, the Preferred Alternative. As modified, Alternative E is now presented as the Proposed Casper RMP in the FEIS. The Proposed Casper RMP would: (1) Provide comprehensive, long-range decisions for the use and management of resources in the planning area administered by the BLM; (2) focus on the principles of multiple use and sustained yield as prescribed by Section 202 of FLPMA; (3) maintain the Jackson Canyon ACEC—(14,308 acres), and add the Alcova Fossil Area ACEC (5,963 acres); and (4) provide prescriptions for five separate management areas—Bates Hole (375,221 acres), Salt Creek (23,911acres), Sand Hills (17,633 acres), South Bighorns/Red Wall (93,352 acres), and Wind River Basin (54,575 acres).

Copies of the Casper PRMP/FEIS have been sent to affected Federal, state, and local government agencies and Tribal governments and to interested parties. Copies of the PRMP/FEIS are available for public inspection during normal working hours (7:45 a.m. to 4:30 p.m.) except weekends and holidays at the BLM Casper Field Office, 2987 Prospector Drive, Casper, WY 82604 and the BLM Wyoming State Office, 5353 Yellowstone Road, Cheyenne, WY 82009. Interested persons may also review the PRMP/FEIS on the Internet http://www.blm.gov/rmp/casper/.

1. Instructions for Filing a Protest

Instructions for filing a protest with the Director of the BLM regarding the PRMP/FEIS may be found at 43 CFR 1610.5-2. A protest may only raise those issues submitted for the record during the planning process. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov.

Please direct the follow-up letter to the appropriate address provided below. The protest must contain:

a. The name, mailing address, telephone number, and interest of the person filing the protest.

b. A statement of the part or parts of the plan and the issue or issues being protested.

c. A copy of all documents addressing the issue(s) the protesting party submitted during the planning process or a statement of the date they were discussed for the record.

d. A concise statement explaining why the protestor believes the State Director's decision is wrong.

All protests must be in writing and mailed to one of the following addresses:

Regular Mail: Director (210), Attention: Brenda Williams, P.O. Box 66538, Washington, DC 20035.

Overnight Mail: Director (210), Attention: Brenda Williams, 1620 L Street, NW., Suite 1075, Washington, D.C. 20036.

The Director will promptly render a decision on the protest. The decision will be in writing and will be sent to the protesting party by certified mail, return receipt requested. The decision of the Director is the final decision of the Department of the Interior.

2. Instructions on Commenting on the Proposed ACECs

BLM planning regulations at 43 CFR 1610.7-2 require the BLM to notify the public of proposed ACECs in the Federal Register releasing the DRMP/DEIS. While the DRMP/DEIS including the ACEC information has been available for public review and comment, the BLM is providing an additional 60-day review period to ensure the procedural requirements contained in 43 CFR 1610.7-2 are met. Specifically, these regulations require the BLM to specify in a Federal Register any resource use limitations, which would occur if an ACEC is designated. The BLM can best use your comments on only the ACEC information presented in the DRMP/DEIS and in this Notice of Supplemental Information if they are received on or before the end of the 60-day comment period following publication of this notice. If any comments received identify new and significant ACEC-related information that has not currently been raised in the planning process, then a Supplemental Proposed Resource Management Plan/Final Environmental Impact Statement may have to be issued and the Record of Decision on this PRMP and FEIS deferred.

Written comments on the ACECs as proposed in the DRMP/DEIS may be submitted as follows:

1. The Casper RMP Revision Web site at http://www.blm.gov/rmp/casper/; the web site allows commenters to submit ACEC-related comments electronically into the Special Designations topic directly onto a comment form posted on the web site.

2. Written comments may be mailed or delivered to the BLM at: Casper RMP/EIS, Bureau of Land Management—Casper Field Office, 2987 Prospector Drive, Casper, WY 82604-2968.

3. Comments may be sent by facsimile to (307) 261-7587.

The BLM will only accept comments if they are submitted in the methods described above. To be given consideration by the BLM, comment submittals must include the commenter's name and street address. Whenever possible, please include reference to either the page or section in the DRMP/EIS to which the ACEC-related comment applies. To facilitate analysis of comments and information submitted, it is encouraged to submit comments in an electronic format through the Web site.

Before including your address, phone number, e-mail address, or other personal identifying information in your comment, you should be aware that your entire comment—including your personal identifying information—may be made publicly available at any time. While you can ask us to withhold your personal identifying information from public review, we cannot guarantee that we will be able to do so.

Dated: April 2, 2007.
Robert A. Bennett,
State Director.

[FR Doc. E7-10886 Filed 6-7-07; 8:45 am]

BILLING CODE 4310-22-P